DEPARTMENT OF TRANSPORTATION

Federal Aviation Administration

Agency Information Collection Activities: Requests for Comments; Clearance of Renewed Approval of Information Collection: ACSEP Evaluation Customer Feedback Report

AGENCY: Federal Aviation Administration (FAA), DOT.

ACTION: Notice and request for comments.

SUMMARY: In accordance with the Paperwork Reduction Act of 1995, FAA invites public comments about our intention to request the Office of Management and Budget (OMB) approval to renew an information collection. The information is collected from holders of FAA production approvals and selected suppliers to obtain their input on how well the agency is performing the administration and conduct of the Aircraft Certification Systems Evaluation Program (ACSEP).

DATES: Written comments should be submitted by July 28, 2015.

ADDRESSES: Send comments to the FAA at the following address: Ronda Thompson, Room 300, Federal Aviation Administration, ASP-110, 950 L'Enfant Plaza SW., Washington, DC 20024.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Ronda Thompson at (202) 267-1416, or by email at: Ronda.Thompson@faa.gov.

SUPPLEMENTARY INFORMATION:

OMB Control Number: 2120-0605

Title: ACSEP Evaluation Customer Feedback Report

Form Numbers: FAA Form 8100-7.

Type of Review: Renewal of an information collection.

Background: The information collected is used by the Aircraft Certification Service's Manufacturing Inspection Offices, Aircraft Certification Offices, and the Production & Airworthiness Certification Division to improve the administration and conduct of the Aircraft Certification Systems Evaluation Program at the local and national levels. Improvements to FAA Order 8100.7, Aircraft Certification Systems Evaluation Program, have been and will continue to be incorporated as a result of the on-going collection of data. It is also used for reporting as a Customer Service Standard in fulfillment of Executive Order 12862, Setting Customer Service Standards.

Respondents: Approximately 200 holders of FAA production approvals and selected suppliers.

Frequency: Information is collected on occasion.

Estimated Average Burden per Response: 30 minutes.

Estimated Total Annual Burden: 100 hours.

Issued in Washington, DC, on May 21, 2015.
Ronda Thompson,
FAA Information Collection Clearance Officer, IT Enterprises Business Services Division, ASP-110.

[FR Doc. 2015-12982 Filed 5-28-15; 8:45 am]

BILLING CODE 4910-13-P